LEGAL SERVICES CORPORATION

Sunshine Act Meeting of the Board of Directors Finance Committee

Time and Date: The Finance Committee of the Legal Services Corporation Board of Directors will meet on November 8, 2002. The meeting will begin at 9 a.m. and continue until the Committee concludes its agenda.

Location: The W Los Angeles Hotel, 930 Hilgard Avenue, Los Angeles, CA.

Status of Meeting: Open.

Matters to be Considered: 1. Approval of agenda.

2. Approval of the minutes of the Committee's meeting of August 23, 2002.

3. Report on the Corporation's operating expenses for Fiscal Year 2002 through September 30, 2002.

4. Consider and act on other business.

5. Public comment.

FOR MORE INFORMATION CONTACT: Victor M. Fortuno, Vice President for Legal Affairs, General Counsel & Corporate Secretary, at (202) 336-8800.

Special Needs: Upon request, meeting notices will be made available in alternate formats to accommodate visual and hearing impairments. Individuals who have a disability and need an accommodation to attend the meeting may notify Elizabeth S. Cushing, at (202) 336-8800.

Dated: November 1, 2002.
Victor M. Fortuno,
Vice President for Legal Affairs, General Counsel & Corporate Secretary.

[FR Doc. 02-28299 Filed 11-4-02; 10:11 am]

BILLING CODE 7050-01-P